ENVIRONMENTAL PROTECTION AGENCY

[EPA-HQ-OECA-2020-0212; FRL-10016-48-OMS]

Information Collection Request Submitted to OMB for Review and Approval; Comment Request; National Emission Standards for Hazardous Air Pollutants for Nutritional Yeast Manufacturing Residual Risk and Technology Review (Renewal)

AGENCY: Environmental Protection Agency (EPA).

ACTION: Notice.

SUMMARY: The Environmental Protection Agency has submitted an information collection request (ICR), National Emission Standards for Hazardous Air Pollutants (NESHAP) for Nutritional Yeast Manufacturing Residual Risk and Technology Review (EPA ICR Number 2568.03, OMB Control Number 2060-0719) to the Office of Management and Budget (OMB) for review and approval in accordance with the Paperwork Reduction Act. This is a proposed extension of the ICR, which is currently approved through December 31, 2020. Public comments were previously requested via the Federal Register on May 12, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 30, 2020.

ADDRESSES: Submit your comments, referencing Docket ID Number EPA-HQ-OECA-2020-0212, online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: This supporting statement addresses information collection activities that will be imposed by amendments to the National Emission Standards for Hazardous Air Pollutants (NESHAP) from Manufacturing of Nutritional Yeast, 40 CFR part 63, subpart CCCC, referred to in this document as the Nutritional Yeast NESHAP. This rule applies to facilities where the total hazardous air pollutants (HAP) emitted are greater than or equal to 10 tons per year of any single HAP, or where the total HAP emitted are greater than or equal to 25 tons per year of any combination of HAP. Owners or operators of the affected facilities must submit initial notifications, performance tests and performance evaluation reports, and periodic reports and results. Owners or operators are also required to maintain records of performance tests and performance evaluations, monitoring, and any failure to meet a standard. These reports are used by EPA to determine compliance with the standards.

Form Numbers: None.

Respondents/affected entities: Nutritional yeast manufacturing facilities.

Respondent's obligation to respond: Mandatory (40 CFR part 63, subpart CCCC).

Estimated number of respondents: 4 (total).

Frequency of response: Semiannual.

Total estimated burden: 1,410 hours (per year). Burden is defined at 5 CFR 1320.3(b).

Total estimated cost: $941,000 (per year), includes $776,000 annualized capital or operation & maintenance costs.

Changes in the Estimates: There is an increase in burden from the most recently approved ICR due to an adjustment. The change in the burden and cost estimates occurred because the standard has been in effect for more than three years and the requirements are different during initial compliance as compared to on-going compliance. The previous ICR reflected those burdens and costs associated with the initial activities for subject facilities following the October 1, 2017 final rule amendments. This includes purchasing monitoring equipment, conducting performance tests, and establishing recordkeeping systems. This ICR removes costs associated with initial compliance, including capital costs. This ICR instead reflects the on-going burden and costs for existing facilities. The adjustment increase in burden is due to an adjustment to the number of facilities conducting performance evaluations to reflect an annual average basis. This ICR reflects the burden for four facilities to conduct a performance evaluation at least once every twelve calendar quarters or three years. Finally, this ICR more accurately reflects the average hours per response, based on the total burden hours divided by the total number of responses submitted by respondents. The previous ICR incorrectly allocated the total burden hours divided by the total number of respondents.

Courtney Kerwin,
Director, Regulatory Support Division.

[FR Doc. 2020-24131 Filed 10-29-20; 8:45 am]

BILLING CODE 6560-50-P